DEPARTMENT OF COMMERCE

International Trade Administration

[A-570-924, A-520-803]

Polyethylene Terephthalate Film, Sheet and Strip From the People's Republic of China and the United Arab Emirates: Final Results of the Expedited Second Sunset Reviews of the Antidumping Duty Orders

AGENCY: Enforcement and Compliance, International Trade Administration, Department of Commerce.

SUMMARY: As a result of these expedited (120-day) sunset reviews, the Department of Commerce (Commerce) finds that revocation of the antidumping duty (AD) orders would be likely to lead to the continuation or recurrence of dumping at the levels indicated in the “Final Results of Review” section of this notice.

DATES: Applicable May 6, 2020.

FOR FURTHER INFORMATION CONTACT: Kathryn Turlo, AD/CVD Operations, Office VII, Enforcement and Compliance, International Trade Administration, U.S. Department of Commerce, 1401 Constitution Avenue NW, Washington, DC 20230; telephone: (202) 482-3870.

SUPPLEMENTARY INFORMATION:

Background

On November 10, 2008, Commerce issued the Orders on polyethylene terephthalate film, sheet, and strip (PET film) from the People's Republic of China (China) and the United Arab Emirates (UAE).¹ On July 1, 2019, Commerce published the Notice of Initiation of the second sunset reviews of the Orders pursuant to section 751(c) of the Tariff Act of 1930, as amended (the Act).² On January 13 and 15, 2020, Commerce received notices of intent to participate from the petitioners ³ and Terphane LLC (Terphane), respectively.⁴ Each filing was timely submitted within the 15-day deadline specified in 19 CFR 351.218(d)(1)(i). The petitioners and Terphane each claimed interested party status under section 771(9)(C) of the Act as a producer of the domestic like product in the United States.

¹ See Polyethylene Terephthalate Film, Sheet, and Strip from Brazil, the People's Republic of China and the United Arab Emirates: Antidumping Duty Orders and Amended Final Determination of Sales at Less Than Fair Value for the United Arab Emirates, 73 FR 66595 (November 10, 2008) (the Orders).

² See Initiation of Five-Year (Sunset) Reviews, 85 FR 67 (January 2, 2020) (Notice of Initiation).

³ The petitioners are DuPont Teijin Films; Mitsubishi Polyester Film, Inc.; SKC, Inc.; and Toray Plastics (America), Inc.

⁴ See Petitioners' Letter, “Polyethylene Terephthalate (PET) Film, Sheet, and Strip from the People's Republic of China: Notice of Intent to Participate in Sunset Review,” dated January 13, 2020; see also Petitioners' Letter, “Polyethylene Terephthalate (PET) Film, Sheet, and Strip from the United Arab Emirates: Notice of Intent to Participate in Sunset Review,” dated January 15, 2020; Terphane's Letter, “Five-Year (“Sunset”) Review Of Antidumping Order On Polyethylene Terephthalate (PET) Film, Sheet, And Strip From The People's Republic of China: Notice Of Intent To Participate,” dated January 15, 2020; and Terphane's Letter, “Five-Year (“Sunset”) Review Of Antidumping Order On Polyethylene Terephthalate (PET) Film, Sheet, And Strip from The United Arab Emirates: Notice Of Intent To Participate,” dated January 15, 2020.

On January 31 and February 3, 2020, Commerce received adequate substantive responses to the Notice of Initiation from the petitioners and Terphane, respectively, within the 30-day deadline specified in 19 CFR 351.218(d)(3)(i).⁵ We received no substantive responses from respondent interested parties with respect to either of the orders covered by these sunset reviews.

⁵ See Petitioners' Letter, “Polyethylene Terephthalate (PET) Film, Sheet, and Strip from the People's Republic of China: Substantive Response to the Notice of Initiation,” dated January 31, 2020; see also Petitioners' Letter, “Polyethylene Terephthalate (PET) Film, Sheet, and Strip from the United Arab Emirates: Substantive Response to the Notice of Initiation,” dated January 31, 2020; and Terphane's Letter, “Five-Year (“Sunset”) Review Of Antidumping Orders On Polyethylene Terephthalate (PET) Film, Sheet, And Strip From China And The United Arab Emirates: Terphane's Substantive Response,” dated February 3, 2020.

On February 24, 2020, Commerce notified the U.S. International Trade Commission (ITC) that it did not receive an adequate substantive response from respondent interested parties.⁶ As a result, pursuant to section 751(c)(3)(B) of the Act and 19 CFR 351.218(e)(1)(ii)(C)(2), Commerce has conducted expedited (120-day) sunset reviews of the Orders.

⁶ See Commerce's Letter, “Sunset Review Initiation on January 2, 2020,” dated February 24, 2020.

Scope of the Orders

The products covered by the Orders is PET film and is currently classifiable in the Harmonized Tariff Schedule of the United States (HTSUS) under item number 3920.62.00.90. A full description of the scope of the Orders is contained in the accompanying Issues and Decision Memorandum.⁷

⁷ See Memorandum, “Issues and Decision Memorandum for the Final Results of the Second Expedited Sunset Reviews of the Antidumping Duty Orders on Polyethylene Terephthalate Film, Sheet, and Strip from the People's Republic of China and the United Arab Emirates,” dated concurrently with, and hereby adopted by, this notice (Issues and Decision Memorandum).

Analysis of Comments Received

All issues raised in these sunset reviews are addressed in the Issues and Decision Memorandum. The issues discussed in the Issues and Decision Memorandum include the likelihood of continuation or recurrence of dumping and the magnitude of the margins likely to prevail if the Orders were revoked. The Issues and Decision Memorandum is a public document and is on file electronically via Enforcement and Compliance's Antidumping and Countervailing Duty Centralized Electronic Service System (ACCESS). ACCESS is available to registered users at http://access.trade.gov. A list of topics discussed in the Issues and Decision Memorandum is included as an appendix to this notice. In addition, a complete version of the Issues and Decision Memorandum can be accessed directly on the internet at http://enforcement.trade.gov/frn. The signed and electronic version of the Issues and Decision Memorandum are identical in content.

Final Results of Reviews

Pursuant to sections 751(c)(1) and 752(c)(1) and (3) of the Act, Commerce determines that revocation of the AD orders on PET film from China and the UAE would be likely to lead to the continuation or recurrence of dumping at weighted-average dumping margins up to 76.72 percent for China and 4.05 percent for the UAE.

Administrative Protective Order

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

Notification to Interested Parties

We are issuing and publishing these final results and this notice in accordance with sections 751(c), 752(c), and 777(i)(1) of the Act, and 19 CFR 351.218.

Dated: April 30, 2020.
Joseph Laroski,
Deputy Assistant Secretary for Policy and Negotiations.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margin of Dumping Likely To Prevail

VII. Final Results of Sunset Reviews

VIII. Recommendation

[FR Doc. 2020-09671 Filed 5-5-20; 8:45 am]

BILLING CODE 3510-DS-P